ENVIRONMENTAL PROTECTION AGENCY

40 CFR Parts 260, 261, 262, 263, 264, 265, 268, 270, 273, and 279

[EPA-HQ-RCRA-2012-0121; FRL-9936-51-OSWER]

RIN 2050-AG70

Hazardous Waste Generator Improvements

AGENCY: Environmental Protection Agency (EPA).

ACTION: Proposed rule; extension of comment period.

SUMMARY: The Environmental Protection Agency (EPA or the Agency) is announcing an extension to the comment period for the proposed rule on improvements to the generator regulations published in the Federal Register on September 25, 2015. EPA is proposing to revise the hazardous waste generator regulations under the Resource Conservation and Recovery Act (RCRA) to improve compliance and thereby enhance protection of human health and the environment. Specifically, EPA proposes to revise certain components of the hazardous waste generator regulatory program; address gaps in the regulations; provide greater flexibility for hazardous waste generators to manage their hazardous waste in a cost-effective and protective manner; reorganize the hazardous waste regulations to make them more user-friendly and thus improve their usability by the regulated community; and make technical corrections and conforming changes to address inadvertent errors, remove obsolete references to programs that no longer exist, and improve the readability of the regulations. The comment period is being extended to December 24, 2015.

DATES: Comments on the proposed rule published September 25, 2015 (80 FR 57918) must be received on or before December 24, 2015.

ADDRESSES: Submit your comments, identified by Docket ID No. EPA-HQ-RCRA-2012-0121, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: For more detailed information on specific aspects of this rulemaking, contact Jim O'Leary, Office of Resource Conservation and Recovery, Materials Recovery and Waste Management Division, MC 5304P, Environmental Protection Agency, 1200 Pennsylvania Ave. NW., Washington, DC 20460, (703) 308-8827, (oleary.jim@epa.gov) or Kathy Lett, Office of Resource Conservation and Recovery, Materials Recovery and Waste Management Division, MC 5304P, Environmental Protection Agency, 1200 Pennsylvania Ave. NW., Washington, DC 20460, at (703) 605-0761 (lett.kathy@epa.gov).

SUPPLEMENTARY INFORMATION:

This document extends the public comment period established in the Federal Register for 30 days. In that Federal Register notice, EPA proposed revising and reorganizing the regulations for generators of hazardous waste. The purpose of these proposed revisions is to make the rules easier to understand, facilitate better compliance, provide greater flexibility in how hazardous waste is managed, and improve environmental protection by closing important gaps in the regulations. Several requests were received from potential commenters to extend the comment period to allow greater time to comment. EPA is hereby extending the comment period, which was set to end on November 24, 2015, to December 24, 2015. Please note that late comments on this rule making may not be considered.

To submit comments or access the docket, please follow the detailed instructions as provided under ADDRESSES. If you have questions, consult the individuals listed under FOR FURTHER INFORMATION CONTACT.

Dated: October 22, 2015.
Barnes Johnson,
Director, Office of Resource Conservation and Recovery, Office of Solid Waste and Emergency Response.

[FR Doc. 2015-28099 Filed 11-4-15; 8:45 am]

BILLING CODE 6560-50-P